DEPARTMENT OF COMMERCE

National Oceanic and Atmospheric Administration

RIN: 0648-XS31

Mid-Atlantic Fishery Management Council; Public Meeting

AGENCY: National Marine Fisheries Service (NMFS), National Oceanic and Atmospheric Administration (NOAA), Commerce.

ACTION: Notice of a public meeting.

SUMMARY: The Mid-Atlantic Fishery Management Council's (Council) Spiny Dogfish Monitoring Committee will hold a public meeting.

DATES: The meeting will be held on Thursday, October 29, 2009, from 10 a.m. to 4 p.m.

ADDRESSES: The meeting will be held at the Radisson Airport Hotel Providence, 2081 Post Rd, Warwick, RI 02886, telephone: (401) 739-3000.

Council address: Mid-Atlantic Fishery Management Council, 300 S. New Street, Room 2115, Dover, DE 19904; telephone: (302) 674-2331.

FOR FURTHER INFORMATION CONTACT: Daniel T. Furlong, Executive Director, Mid-Atlantic Fishery Management Council, 300 S. New Street, Room 2115, Dover, DE 19904; telephone: (302) 674-2331, extension 19.

SUPPLEMENTARY INFORMATION: The purpose of this meeting is to review the update to the status of the spiny dogfish stock and develop management measures for the 2010 fishing year. The Monitoring Committee will take into consideration the Council's Scientific and Statistical Committee's recommendations for specification of Acceptable Biological Catch (ABC) for spiny dogfish for the upcoming fishing year(s). Management measures that will be discussed may include, but not necessarily be limited to, quotas and daily landings limits. Multiple-year management measures for fishing years 2011 through 2012 may also be addressed. The Atlantic States Marine Fisheries Commission's Spiny Dogfish Technical Committee will also be present and will develop recommendations for management measures in state jurisdictional waters.

Although non-emergency issues not contained in this agenda may come before this group for discussion, in accordance with the Magnuson-Stevens Fishery Conservation and Management Act (Magnuson-Stevens Act), those issues may not be the subject of formal action during this meeting. Actions will be restricted to those issues specifically identified in this notice and any issues arising after publication of this notice that require emergency action under Section 305(c) of the Magnuson-Stevens Act, provided the public has been notified of the Council's intent to take final action to address the emergency.

Special Accommodations

The meeting is physically accessible to people with disabilities. Requests for sign language interpretation or other auxiliary aids should be directed to M. Jan Bryan at the Mid-Atlantic Council Office, (302) 674-2331 extension 18, at least 5 days prior to the meeting date.

Dated: October 9, 2009.
Tracey L. Thompson,
Acting Director, Office of Sustainable Fisheries, National Marine Fisheries Service.

[FR Doc. E9-24739 Filed 10-14-09; 8:45 am]

BILLING CODE 3510-22-S